Title 3—

The President

Presidential Determination No. 2006-13 of May 4, 2006

Determination Pursuant to Section 2(c)(1) of the Migration and Refugee Assistance Act of 1962, as Amended

Memorandum for the the Secretary of State

Pursuant to section 2(c)(1) of the Migration and Refugee Assistance Act of 1962, as amended, 22 U.S.C. 2601(c)(1), I hereby determine that it is important to the national interest that up to $28 million be made available from the U.S. Emergency Refugee and Migration Assistance Fund to support unexpected urgent humanitarian needs related to the U.N. High Commissioner for Refugees' new role to protect and assist Internally Displaced Persons; refugee repatriation to Burundi and the Democratic Republic of Congo; refugee feeding operations; and drought relief affecting conflict areas of Somalia. These funds may be used, as appropriate, to provide contributions to international, governmental, and non-governmental organizations, and, as necessary, for administrative expenses of the Bureau of Population, Refugees, and Migration.

You are authorized and directed to inform the appropriate committees of the Congress of this determination and the obligation of funds under this authority and to arrange for the publication of this memorandum in the Federal Register.

B

THE WHITE HOUSE,

Washington, May 4, 2006.

[FR Doc. 06-4482

Filed 5-10-06; 8:45 am]

Billing code 4710-10-P